DEPARTMENT OF TRANSPORTATION

Federal Transit Administration

[Docket Number FTA-2005-23227]

Notice of Revision of Title VI Circular and EEO Circular

AGENCY: Federal Transit Administration, DOT.

ACTION: Notice and request for comment.

SUMMARY: The Federal Transit Administration (FTA) is revising and updating its Circulars 4702.1, “Title VI Program Guidelines for Urban Mass Transit Administration Recipients” and 4704.1 “Equal Employment Opportunity Program Guidelines for Grant Recipients.” FTA is seeking input from interested parties on this document, including examples of problems with compliance, best practices for compliance, and proposals for changes to these circulars. Upon consideration of the comments, FTA will issue revised circulars and will seek additional comments on the revised documents.

DATES: Comments must be received by January 17, 2006. Late filed comments will be considered to the extent practicable. FTA will publish a second notice in the Federal Register summarizing all comments received regarding this notice.

ADDRESSES: You may submit comments [identified by DOT DMS Docket Number FTA-2005-23227] by any of the following methods:

Web site: http://dms.dot.gov. Follow the instructions for submitting comments on the DOT electronic docket site.

Fax: 202-493-2251.

Mail: Docket Management Facility; U.S. Department of Transportation, 400 Seventh Street, SW., Nassif Building, PL-401, Washington, DC 20590-0001.

Hand Delivery: Room PL-401 on the plaza level of the Nassif Building, 400 Seventh Street, SW., Washington, DC, between 9 a.m. and 5 p.m., Monday through Friday, except Federal holidays.

Instructions: You must include the agency name (Federal Transit Administration) and the docket number (FTA-2005-23227). You should submit two copies of your comments if you submit them by mail. If you wish to receive confirmation that FTA received your comments, you must include a self-addressed stamped postcard. Note that all comments received will be posted without change to the Department's Docket Management System (DMS) Web site located at http://dms.dot.gov. This means that if your comment includes any personal identifying information, such information will be made available to users of DMS.

FOR FURTHER INFORMATION CONTACT: For the Title VI Circular, David Schneider, Office of Civil Rights, 400 Seventh Street, SW., Washington, DC 20590, (202) 366-4018 or at David.Schneider@fta.dot.gov;. For the EEO Circular, Sandra McCrea, Office of Civil Rights, 400 7th Street, SW., Washington, DC 20590, (202) 366-4018 or at sandra.mccrea@fta.dot.gov. For legal questions, Linda Lasley, Assistant Chief Counsel, Federal Transit Administration, 400 Seventh Street, SW., Room 9316, Washington, DC 20590, (202) 366-4011 or Linda.Lasley@dot.gov.

SUPPLEMENTARY INFORMATION:

1. Background

Title VI of the Civil Rights Act of 1964 prohibits discrimination on the basis of race, color, or national origin in programs and activities receiving Federal financial assistance. Specifically, Title VI provides that “no person in the United States shall, on the ground of race, color, or national origin, be excluded from participation in, be denied the benefits of, or be subjected to discrimination under any program or activity receiving Federal financial assistance.” (42 U.S.C. 200d). Section 504 of the Rehabilitation Act of 1973 (29 U.S.C. 790) states: “No qualified handicapped person shall, solely by reason of his handicap, be excluded from participation in, be denied the benefits of, or be subjected to discrimination under any program or activity that receives or benefits from Federal financial assistance.” Additionally, the Age Discrimination Act of 1975 (42 U.S.C. 6101) states that “no person in the United States shall, on the basis of age, be excluded from participation in, be denied the benefits of, or be subjected to discrimination under, any program or activity receiving Federal financial assistance.” 23 U.S.C. 324 provides a similar prohibition on the basis of sex: “No person shall on the ground of sex be excluded from participating in, be denied the benefits of, or be subjected to discrimination under, any program or activity receiving Federal financial assistance under this title or carried on under this title.”

FTA Circulars 4702.1, “Title VI Program Requirements for Urban Mass Transit Administration Recipients” and 4704.1 “Equal Employment Opportunity Program Guidelines for Grant Recipients” provide information on how FTA will enforce Title VI and EEO requirements. Both circulars include information, guidance, and instructions on the objectives of the FTA Title VI and EEO programs; information on specific grant programs covered by the FTA Title VI and EEO programs; a description of the FTA data collection and reporting requirements; a summary of the FTA compliance review for Title VI and EEO certification procedures; a description of the FTA process for implementing remedial and enforcement actions; information on the DOT complaint process; and public information requirements.

Circulars 4702.1 and 4704.1 were last updated in May and July 1988, respectively. FTA is establishing a docket to receive public comment on these circulars. FTA intends to revise these circulars to incorporate existing practices, lessons learned, and reflect current Department policies and guidance relating to Title VI and EEO. Comments received will be summarized in another Federal Register notice.

In addition, FTA will solicit additional public comment on revisions to these circulars made as a result of public comment.

Issued in Washington, DC this 9th day of December 2005.
Michael Winter,
Director, FTA Office of Civil Rights.

[FR Doc. 05-24066 Filed 12-14-05; 8:45 am]

BILLING CODE 4910-57-M